DEPARTMENT OF COMMERCE

National Oceanic and Atmospheric Administration

RIN 0648-XF858

New England Fishery Management Council; Public Meeting

AGENCY: National Marine Fisheries Service (NMFS), National Oceanic and Atmospheric Administration (NOAA), Commerce.

ACTION: Notice of public meeting via webinar.

SUMMARY: The New England Fishery Management Council's Scientific and Statistical Committee will hold a webinar to review the 2017 Plan B Operational Assessment for Atlantic Halibut. Recommendations from this group will be brought to the full Council for formal consideration and action, if appropriate.

DATES: This webinar will be held on Monday, December 18, 2017, beginning at 1:30 p.m. Webinar registration URL information: https://attendee.gotowebinar.com/register/1474214582272609539; Call in information: +1 (213) 929-4212, Attendee Access Code: 823-584-672.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Scientific and Statistical Committee will review the 2017 Plan B Operational Assessment for Atlantic Halibut, and the work provided by the SSC sub-panel review and the Groundfish Plan Development Team. Taking into account the Council's Risk Policy Statement, the SSC will recommend an OFL and an ABC for each fishing year 2018-2020 that will prevent overfishing, and achieve rebuilding if needed, consistent with the Council's ABC control rule for groundfish stocks. Other business will be discussed as needed.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Thomas A. Nies, Executive Director, at 978-465-0492, at least 5 days prior to the meeting date.

Authority: 16 U.S.C. 1801 et seq.

Dated: November 24, 2017.
Tracey L. Thompson,
Acting Deputy Director, Office of Sustainable Fisheries, National Marine Fisheries Service.

[FR Doc. 2017-25766 Filed 11-28-17; 8:45 am]

BILLING CODE 3510-22-P